DEPARTMENT OF TRANSPORTATION

Federal Aviation Administration

Docket No. FAA-2022-0201]

Agency Information Collection Activities: Requests for Comments; Clearance of Renewed Approval of Information Collection: Certification: Pilots and Flight Instructors

AGENCY: Federal Aviation Administration (FAA), DOT.

ACTION: Notice and request for comments.

SUMMARY: In accordance with the Paperwork Reduction Act of 1995, FAA invites public comments about our intention to request Office of Management and Budget (OMB) approval to renew an information collection. FAA regulations prescribe certification standards for pilots, flight instructors, and ground instructors. The information collected is used to determine compliance with applicant eligibility.

DATES: Written comments should be submitted by April 18, 2022.

ADDRESSES: Send comments to the FAA at the following address: Dwayne C. Morris, Federal Aviation Administration, 800 Independence Ave. SW, Washington, DC 20591; email: chris.morris@faa.gov.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Jean Hardy by email at: jean.hardy@faa.gov. phone: 207-289-7287.

SUPPLEMENTARY INFORMATION: OMB Control Number: 2120-0021.

Title: Certification: Pilots and Flight Instructors.

Form Numbers: 8710-1, 8710-13.

Type of Review: This is a renewal of an existing information collection.

Background: Persons applying for an airman certificate under part 61 are mandated to report information using the Airman certificate and/or Rating Application form and the required records, logbooks and statements to the Federal Aviation Administration (FAA) Flight Standards District Offices or its representatives on occasion. This information is used to determine qualifications of the applicant for issuance of a pilot or instructor certificate, or rating or authorization. The FAA estimates that there are approximately 825,000 active certificated pilot airmen. This includes student, private, commercial, airline transport pilot certificate holders, as well as ground and flight instructors. Approximately 25% of these pilots are providing data on an annual basis. Instructor certificates must be renewed every 24 months to remain effective. If the information collection were not conducted, the FAA would be unable to issue the appropriate certificates and ratings. Persons applying for a remote pilot certificate with a small UAS rating under part 107, are mandated to report information using the FAA Form 8710-13, Remote Pilot Certificate and/or Rating Application. For applicants who do not hold a pilot certificate under part 61, the Remote Pilot Certificate and/or Rating Application is submitted along with a documentation demonstrating that the applicant passed an aeronautical knowledge test. For applicants who hold a pilot certificate under part 61 and meet the flight review requirements of § 61.56, the Remote Pilot Certificate and/or Rating Application is submitted with evidence of completion of the training program is estimated to be approximately 25 percent of the population of active certificated pilots and instructors. Given a population of 825,000, the result is approximately 206,250 respondents providing data on an annual basis. The total number of applicants for a remote pilot certificate with a small UAS rating is estimated to be 39,229 annually.

Frequency: As needed.

Estimated Average Burden per Response: For the hour burdens resulting from the application requirements of the collection of information other than remote pilots with small UAS ratings, the FAA estimates that forms are submitted for these certificates and ratings at an average preparation time of 15 minutes (0.25 hrs) each. The average time estimate of 0.25 hours assumes that many individual applicants will submit an 8710-1 form more than once for various reasons, and that most of the information provided on the form likely will not have changed. For Part 107 we estimate that an average of 39,229 forms are submitted annually that require an average preparation time of 0.25 hours to complete.

Estimated Total Annual Burden: The total number of annual responses for the airman certification program is estimated to be 1,171,0405. The FAA estimates the total reporting burden hours to be 43,157 hours. The FAA estimates the total recordkeeping burden hours to be 282,329 hours. The FAA estimates the burden for the collection of information to be 325,486 hours annually.

Issued in Washington, DC, on February 9, 2022.
Dwayne C. Morris,
Project Manager, Flight Standards Service.

[FR Doc. 2022-03196 Filed 2-14-22; 8:45 am]

BILLING CODE 4910-13-P